DEPARTMENT OF DEFENSE

Department of the Army, Corps of Engineers

Proposed Reduction in Hours of Operation at Lock and Dam 1, Located in Minneapolis, MN

AGENCY: U.S. Army Corps of Engineers, DoD.

ACTION: Notice.

SUMMARY: The St. Paul District is proposing to reduce the hours of operation at Lock and Dam 1 from 10 hours per day, 7 days per week to 10 hours per day on weekends and holidays and 6 hours per day on Mondays and Fridays. Commercial lockages would be available by appointment only with 24 hours' notice Tuesday through Thursday during normal duty hours of 0700-1530. Proposed hours of operation are 1200-1800 Fridays and Mondays, and 0800-1800 Saturdays, Sundays and holidays. Hours of operation at Lower St. Anthony Falls will not change. This change will help achieve the goal of providing consistent levels of operating service for all locks across the Inland Marine Transportation System (IMTS) with a consistent approach, optimizing Operations and Maintenance expenditures for these assets and extending the service life of navigation locks by optimizing usage. The navigation season on the Upper Mississippi normally begins in March and ends in December, but varies based on river conditions. Pool levels will not be affected by this change of operating hours.

DATES: Submit written comments concerning this notice by September 4, 2019.

ADDRESSES: Submit comments to Ms. Tamara Cameron, Deputy Chief, Operations Division, U.S. Army Corps of Engineers, 180 Fifth Street East, Suite 700, St. Paul, MN 55101-1678, or by email at LOS.Comments@usace.army.mil.

FOR FURTHER INFORMATION CONTACT: Mr. David Frantz at Corps of Engineers Headquarters in Washington, DC, by phone at 202-761-0250.

SUPPLEMENTARY INFORMATION: There are three (3) Mississippi River locks located in Minneapolis, MN. One of the three locks (Upper Saint Anthony Falls) was closed to navigation on June 10, 2015. The two Mississippi River locks still in operation in Minneapolis, MN, (Lower St. Anthony Falls, and Lock and Dam 1, currently operate 10 hours per day/7 days per week during the navigation season.

Section 2010 of the Water Resources Reform and Development Act of 2014 (WRRDA) directed the Secretary of the Army to close the Upper St. Anthony Falls Lock and Dam located on the Mississippi River at river mile 853.9 no later than one (1) year after the enactment date of WRRDA 2014. To comply with WRRDA, the Corps closed Upper St. Anthony Falls Lock to navigation on June 10, 2015.

With the closing of Upper St. Anthony Falls Lock, a reduction in lockages at the remaining two Minneapolis locks has been observed. The proposed change in level of service complies with the guidance from the Corps IMTS Board of Directors.

The legal authority for the regulation governing the use, administration, and navigation of the Twin Cities locks is Section 4 of the River and Harbor Act of August 18, 1894 (28 Stat. 362), as amended, which is codified at 33 U.S.C. Section 1. This statute requires the Secretary of the Army to “prescribe such regulations for the use, administration, and navigation of the navigable waters of the United States” as the Secretary determines may be required by public necessity. Reference 33 CFR 207.300.

Kevin L. Baumgard,
Chief, Operations Division, St. Paul District Army Corps of Engineers.

[FR Doc. 2019-16667 Filed 8-2-19; 8:45 am]

BILLING CODE 3720-58-P